NATIONAL COUNCIL ON DISABILITY

Sunshine Act Meetings

TIME AND DATE: The Members of the National Council on Disability (NCD) will hold a quarterly business meeting on Thursday, March 11, 2021, 1:00 p.m.-4:00 p.m., Eastern Standard Time (EST).

PLACE: This meeting will occur via Zoom videoconference. Registration is not required. Interested parties are encouraged to join the meeting in an attendee status by Zoom Desktop Client, Mobile App, or Telephone to dial-in. Updated information is available on NCD's event page at https://ncd.gov/events/2021/upcoming-council-meeting. To join the Zoom webinar, Please use the following URL: https://zoom.us/j/91726349831?pwd=dTNxNHFoWUdYRVRGaER1SG53Qm01dz09 or enter Webinar ID: 917 2634 9831 in the Zoom app. The Passcode is: 271768.

To join the Council Meeting by telephone, dial one of the preferred numbers listed. The following numbers are (for higher quality, dial a number based on your current location): (312) 626-6799; (646) 876-9923; (301) 715-8592; (346) 248-7799; (408) 638-0968; (669) 900-6833; or (253) 215-8782. You will be prompted to enter the meeting ID 917-2634-9831 and passcode 271768.

In the event of teleconference disruption or failure, attendees can follow the meeting by accessing the Communication Access Realtime Translation (CART) link provided. CART is text-only translation that occurs real time during the meeting and is not an exact transcript.

MATTERS TO BE CONSIDERED: Following welcome remarks and introductions, the Chairman will provide a report; followed by a discussion on open items from the November 2020 Council Meeting; reports provided by the Executive Director and representatives from the Executive Committee; an update on policy projects for the remainder of Fiscal Year 2021; discussion of follow-up projects on former policy reports; a schedule of 2021 Council Meetings; and any unfinished business before adjournment.

Agenda: The times provided below are approximations for when each agenda item is anticipated to be discussed (all times Eastern Standard Time):

Thursday, March 11, 2021

1:00-1:10 p.m. Welcome and Call to Order

1:10-1:30 p.m. Chairman's Report

1:30-2:00 p.m. Open Items from November 2020 Council Meeting

2:00-2:15 p.m. Executive Director's Report

2:15-2:45 p.m. Executive Committee Report

2:45-3:15 p.m. Policy Project Updates, Remainder FY21

3:15-3:45 p.m. Follow-up Projects on Former Policy Reports

3:45-4:00 p.m. Schedule of 2021 Council Meetings, Unfinished Business

4:00 p.m. Adjourn

Public Comment: There is no in-person public comment session during this council meeting, however the Council is soliciting public comment by email, providing an opportunity to hear from you—individuals, businesses, providers, educators, parents and advocates. Your comments are important in bringing attention to the issues in your community. Of specific interest is your feedback to the Vision and Priority Statement released by NCD Chairman Andrés Gallegos, available at: https://ncd.gov/newsroom/2021/vision-and-priority-statement-ncd-chairman-gallegos, and any general topics you would like to share with the Council. To provide comments, please send an email to PublicComment@ncd.gov with the subject line “Public Comment” and your name, organization, state, and topic of comment included in the body of your email.

CONTACT PERSON FOR MORE INFORMATION: Nicholas Sabula, NCD, 1331 F Street NW, Suite 850, Washington, DC 20004; 202-272-2004 (V), or nsabula@ncd.gov.

Accommodations: An ASL interpreter will be available on video during the meeting, and a CART streamtext link has been arranged for this meeting. The web link to access CART (in English) is: https://www.streamtext.net/player?event=NCD-QUARTERLY. If you require additional accommodations, please notify Anthony Simpson by sending an email to asimpson.cntr@ncd.gov as soon as possible and no later than 24 hours prior to the meeting.

Due to last-minute confirmations or cancellations, NCD may substitute agenda items without advance public notice.

Dated: February 24, 2021.
Anne C. Sommers McIntosh,
Executive Director.

[FR Doc. 2021-04207 Filed 2-24-21; 4:15 pm]

BILLING CODE 8421-02-P